DEPARTMENT OF THE TREASURY

Financial Education Core Competencies; Comment Request

AGENCY: Department of the Treasury.

ACTION: Notice and request for comment.

SUMMARY: The Department of the Treasury, in its capacity as Chairperson of the Financial Literacy and Education Commission (“Commission”), invites the public to comment on a proposed set of financial education core competencies (“Core Competencies”). Comments are requested specifically on whether the list of Core Competencies referenced in the Supplementary Section is complete and whether there are portions that should be deleted, revised, or expanded.

DATES: Comments should be received on or before September 12, 2010, to be considered.

ADDRESSES: Written comments should be sent via e-mail to FLECstrategy@do.treas.gov or by mail to the Department of the Treasury, Office of Financial Education and Financial Access, 1500 Pennsylvania Avenue, NW., Washington, DC 20220.

In general, the Department will make all comments available in their original format, including any business or personal information provided such as names, addresses, e-mail addresses, or telephone numbers, for public inspection and photocopying in the Department's library, Room 1428, Main Department Building, 1500 Pennsylvania Avenue, NW., Washington, DC 20220, on official business days between the hours of 10 a.m. and 5 p.m. You can make an appointment to inspect comments by calling (202) 622-0990. All comments received, including attachments and other supporting materials, are part of the public record and subject to public disclosure. You should only submit information that you wish to make publicly available.

FOR FURTHER INFORMATION CONTACT: For additional information, contact Dubis Correal by e-mail at ofe@do.treas.gov or by telephone at (202) 622-5770 (not a toll free number). Additional information regarding the Commission and the Department of the Treasury's Office of Financial Education and Financial Access may be obtained through its Web site, http://www.treasury.gov/financialeducation.

SUPPLEMENTARY INFORMATION: The Department of the Treasury, in its capacity as Chairperson of the Commission, invites the public to comment on a proposed set of financial education core competencies Core Competencies. The request is under authority of Title V of the Fair and Accurate Credit Transactions Act of 2003 (Pub. L. 108-159), which directs the Commission to review, not less than annually, the National Strategy to promote basic financial literacy and education. As part of the development of the new National Strategy, the Commission determined that it is necessary to develop core competencies for consumers and financial education providers. The financial education field lacks a common understanding of what we collectively are trying to achieve, and there is no agreement on the appropriate basic content for financial literacy and education. The development of core competencies is a fundamental step in establishing a clear understanding about what individuals should know and the basic concepts program providers should cover. Furthermore, the Core Competencies are particularly important in establishing a baseline of knowledge, which is crucial for both individuals and providers of financial education to address the current lack of consistency in various financial literacy programs in identifying their goals and objectives, how program success is measured, and what financial information and problem-solving skills participants can be expected to acquire.

The Department of the Treasury, in conjunction with the Commission's Core Competencies Subcommittee, identified five core concept areas: (1) Earning, (2) spending, (3) saving, (4) borrowing, and (5) protecting against risk, as well as specific core competencies for each area. The goal of the Core Competencies is to define what consumers should know and be able to do to successfully understand and make informed decisions about their personal finances.

This request for comments is one of several steps in the validation phase of the development of the Core Competencies. Ultimately, the goal is to put the Core Competencies into a format and language that are both easily accessible and easily remembered—analogous to the “food pyramid.” This step will be undertaken once we have received public comment. Comments are requested specifically on whether the list of Core Competencies is complete and whether there are portions that should be deleted, revised, or expanded.

Core concept | Knowledge | Action/behavior
Earning | Gross versus net pay | Understand your paycheck.
| Benefits and taxes | Learn about potential benefits and taxes.
| Education is important | Invest in your future.
Spending | The difference between needs and wants | Develop a spending plan. Track spending habits. Live within your means. Understand the social and environmental impacts of your spending decisions.
Saving | Saved money grows | Start saving early. Pay yourself first.
| Know about transactional accounts (checking) | Understand and establish a relationship with the financial system.
| Know about financial assets (savings accounts, bonds, stocks, mutual funds) | Comparison shop. Balance risk and return.
| How to meet long-term goals and grow your wealth | Save for retirement, child's education, and other needs. Plan for long-term goals. Track savings and monitor what you own.
Borrowing | If you borrow now, you pay back more later. The cost of borrowing is based on how risky the lender thinks you are (credit score) | Avoid high cost borrowing, plan, understand, and shop around. Understand how information in your credit score affects borrowing. Plan and meet your payment obligations. Track borrowing habits. Analyze renting versus owning a home.
Protect | Act now to protect yourself from potential catastrophe later | Choose appropriate insurance. Build up an emergency fund. Shop around.
| Identity theft/fraud/scams | Protect your identity. Avoid fraud and scams. Review your credit report.

Dated: August 18, 2010.
Alistair Fitzpayne,
Executive Secretary.

[FR Doc. 2010-21305 Filed 8-25-10; 8:45 am]

BILLING CODE 4810-25-P